DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending December 31, 2025. For purposes of this listing, long-term residents, as defined in section 877(e)(2), are treated as if they were citizens of the United States who lost citizenship.

Last name | First name | Middle name/initials
ABBEY | SUE | MARIE
ABEYA | EVA | DULCENA
ABEYA | JEREMY | BONDAD
ABOITIZ | DAVID | MIKEL
ACESTOR | NATHALIE | M.A.
ACHTMAN | AVIEL | HELEN
AFFOLTER | ALEXANDER | WOO CHEOL
AFLALO | MIGUEL
AKUTAGAWA | TOMOYUKI
ALEMU | EZSEGENET
ALFRED | JAMES | ROBERT
ALGEO | DEBORAH | MARIE
ALICI | ESEN
ALKEBY | SARA | ELISABETH
ALTENDORFER | ELFRIEDE
AMAGASE | HARUNOBU
AMAGASE | YUMI
ANDERSON | CHERYL | DAWN
ANDRAUD | MARINE | LAETITIA
ANDRES | KAREN | LINDA
ANSCHAU | ALICIA | CATHERINE
ANSCHAU | DEBORAH | ANNE
ANTABI | TAMER
ARAICHE | DIANE | THERESA
AREND | DENNIS
ARMSTRONG | NICHOLAS | CHARLES
ASAGE | AIMI
ASANTE | ERIKA | MARGRIT
ATTAR | MUHANAD | SAMI
AULL | SAMUEL | ALBERT
AUSTIN | SOPHIE | JADE
AVRAMOV | LUCHEZAR
BACCHI | LIVIA | MOSCARDI
BACLIG | JESSE | CRUZ
BAILLE-BARELLE | CHARLES | ANDRE
BAKER | ERICA | ANN
BALLARD | KIRRIE | JANE
BARKMAN | KATHERINE | ANN
BARNES | MICHAEL | ANTHONY
BARNHOUSE | WERNER | RAY
BARRON | PAUL | LINDSAY WALLACE
BATEMAN | GEORGE | CECIL
BATH | LAUREN | PATRICIA
BAUMANN | NEVA | CLAIRE
BAUMARD | PHILIPPE | BERNARD NICOLAS
BEATTY | JULIE | KAY
BEAVAN | SARAH | DEBRA
BECHER | BENEDICT
BECK | SIMONE | C.
BECKER | JAMIE | MATTHEW
BELLIENO | AXEL
BELLIVEAU | ROBERT | NORMAND
BENDAT | SAMUEL | JOSEPH
BENDER | MELISSA | ELAINE
BENNETT | DYLAN | SCOTT
BENTLEY | KATIE | ANNE
BERGSMA | LYNDA | JOAN
BERLYNE | NAOMI | RHODA
BERNARD | CLEMENCE | MARIE KATE
BERRY | JACQUES | VALENTIN
BETTS | DONNA | JEAN
BICKFORD | KYLIE | JANE
BIER | YAEL | JUDITH
BIMSON | DANIEL | THOMAS OTT
BIREWAR | DEEPAK | BABURAO
BITTAR | NATHALIE
BITTNER | FABRIZIO
BJOERNEBOE | JULIA
BLACKMON | STUART | LELAND
BLACKWELL | JOHN | KEITH
BLONIARZ | ERIC | WILLIAM
BLOWER | ELIZABETH | ANNE
BOCK | MARKUS | ALEXANDER
BODNAR | ANDREA | CLARA
BOEHM | ASUKA | ATLANTA ASADA
BONDURANT-DAVID | KAITLIN | DAKOTA
BONHAM-CARTER | RUPERT | PETER
BOREL | CORINNE | CHRISTIANE
BORIOLI | MICHAL | ALEXANDRIA
BOSSONNEY | MADELEINE | MARIE
BOWDEN | JULIAN | CHARLES
BRAAMS | ELIZABETH | HELENE
BRADLEY | MARK | THOMAS
BRANNAN | JOHN | GUY CHRISTOPHER
BRANTLY | HENRY | JOHN
BRAY | ROBERT | ALEXANDER
BRECKBILL | ERIN | ELIZABETH
BREESE | CECILY | ANNE TYLER
BREGMAN | ISAIAH | DOV
BRETT | LISA | DOVIDAS
BRIDWELL | EUGENE | EDGAR
BROTCHIE | AMANDA | JANE
BROUWER | JOCELYN | CLAIRE
BROWN | CHRISTOPHER | EUGENE
BROWN | PATRICIA | ANN
BROWNELL | TRACY | LYNN
BRUCE | KRISTINA | ANN
BRUECKNER | LUCAS
BRUNO | WILHELM | NICHOLAS
BUCHELIN | JOHN | TREVOR
BUERGER | MARIANNE
BURBANK | CAROLINE | ANN
BURDETT | RICHARD | MICHAEL
BURKHARDT | OLIVER | YVES
BUSH | JOANNA | SUSAN
BUSHNELL | VICTORIA | JEAN
BUSKARIOL | DANIEL | THOMAS
BUTLER | ABIGAIL | LYNDON
BUTT | JAMES | ARTHUR
BYRNES | HOLLY | MARIE
CACHIA | MARK | EMANUEL
CACHON | MARIE-ANGE | CLAIRE ANNE
CALABI | GIUSEPPE
CALLHAN | CHARITY | ANN
CAMPBELL | DONALD
CAMPBELL | LISA | LOUISE
CAMPOS | EDGAR | ALEXANDER
CANDLIN | SARAH | ELISABETH
CANIS | NICOLE | LISE GIACCARDI RUEHLE
CANIZARES | ANDREA | MEREDITH DAVILYN
CANIZARES | CLAUDIO | ANDRES
CAPES | DONOVAN | COOPER
CARDELUS | ARTURO | M.
CAREY | DAVID | BRIAN
CARGIN | SEAN | ANDREW
CAROLINE | BARBARA | LEE
CARTER | ELIZABETH | ANNE
CARTER | NANCY | MARIE
CASTLE | CHRISTOPHER | MICHAEL
CASTLE | NICHOLAS | WALTER
CASTRO | CARMEN | ANITA
CATTO | ALEXANDRE | ERIC
CATTO | PIERRE | CHRISTOPHER
CESAR | LUDMILA | NAIRA
CHALUTZ | TAL
CHAMBERLIN | ANNA | NAMFON
CHAMBERLIN | EMILY | NOPRADA
CHAN | SELINA | SZE MAN
CHANG | DAVID | WEI
CHANG | WEI | SHYANG
CHAPMAN | ANDREW | PETER
CHAPMAN | ROBERT | STANLEY
CHARBONNEAU | ROBERT | SYLVIO
CHATER | OLIVER | JAMES DYSON
CHEESEMAN | SHEILA | S.
CHEN | HUINENG | CLEMENT
CHEN | XUEQIN
CHENARD | GABRIELLE | PASCALE
CHENG | ANDREW
CHIU | JEANNY | CHING LI
CHOMKA | CHESTER | ELIOT
CHOW | JOSEPHINE | K.
CHRISTMAN | KUMIKO | SAITO
CHUANG | LING | TANG
CHUN | PEGGY | PUI-GEE
CIARAMELLA | SOPHIE | THERESA
CIMA | GIUSEPPE
CLARK | CHRISTINA | CHERIE
CLARK | KIMBERLY | MADGE
CLARK | MATHEW | WALKER
CLARK | PATRICIA | FLAHERTY
CLARKE | DERMOT | JOSEPH
CLASPELL | KERSTIN | INGA
CLAUS | MELISSA | ANNE
CLERC | BERTRAND | LUCIEN
CLOGG | JESSICA | LEE
CLOSE | HEATHER | ELIZABETH
COLBECI | MERON
COLE | DANIEL | PAUL
COLLIER | NANCY | LOUISE
COLUCCI | GIOVANNI | BATTISTA
COOK | GARRY | JOHN
COOK | MELANIE | BELLE
COOKE | EOIN | JOSEPH
CORLUHAN | OMER | MEHMET
COUBAN | JONATHAN | STEPHEN
COUET | NATHALIE | ZOLCINSKI
COURY | DALLAS | LAYNE MAXIME
COURY | VICTORIA | CLARA ASHLEY
COUSLAND | ROBERT | MCKAY
COUTURIER PHILIPPE | ISABELLE | SIMONE PAULINE
CREIGHTON | ANN | MARIE
CROST | BENJAMIN
CUEVAS | MITCHELL | GUY
CULLEN | SEAMUS | LEO
CUMMINGS | JARED | MICHAEL
CUNHA | ADELINA | SCHEILA
DABAH | JACOB | JOSEPH
DAHLGREN | EBBA | LOUISE ANNA
DALBY | DAVID | CHRISTOPHER
DALTON | NOAH | XAVIER
DANESH-CLOUGH | AMELIA | LAYLA
DANIO | KIMBERLY | ANN
DARLEY | ROBERT | HENRY
DARLING | JOEL | WILLIAM
DAVIE | GREGORY | JOHN
DAVIE | SHERRY | ANN
DAVIES | NICOLA | LOUISE
DAVIS | BRONWYN | CLAIRE PHILLIPS
DAY | DEBORAH | ANNE
DE BEER | ISODORIS | ANGELINUS QUIRINUS
DE CARBONNEL | LAUREN | KIMBERLEY
DE GEUS | ANNEKE | MARTINA
DE JONGH | MARIEKE | EVA
DE LA PARRA LEYBA | CAMILA | IRAIDA
DE SOUZA | DUNCAN | GREGORY
DEANE | DEBORAH | SABALOT
DECKER | EDWIN | NEAL
DECOURSEY-SHANDRICK | DARREN | GRAYSON
DIB | FARAH | C.
DICKSON | VAN | JAY
DILBERT | TIMOTHY | ANDRE
DION | FRANCINE
DITTMANN | ALMUT | MARGARETE
DIXON | GUY | THOMAS
DOBSON | ELIZABETH | S.
DOERING | KLAUS | JOACHIM
DONDE | ILANA
DONNELLY | SEAN | MICHAEL
DONNERS | LEONARD | JAKOB
DONNERS | MATTHIAS | PAUL
DORF | CORNELIUS | SEBASTIAN
DORSEY | WILLIAM | CUFF
DOUGLAS | ROSEMARIE
DRAKE | TYLER | PHILIP
DUBICKI | DEANNA | CHRISTINE
DUBOIS | LINDSAY
DUEK | JULIETA
DUHAU | ANAIS | PAULINE MARIE
DUKES | PAUL | RYAN
DUMAS | MARTINE | JOCELYNE
DUNSEATH | JOANNE | SARAH
DUSSAULT | CAROLINE | JOYCE
DUSSAULT | ELIZA | MADELEINE
DYCK | ARTHUR | PHILIP
DYCK | SUZANNE | RUTH
EATON | EDITH | EILEEN
EBANKS | MELANIE | LEE
EBINA | WAKAKO
EEUWEN | MAUD | JOHANNA
EGGENBERGER | ENYA | SAMIRAH
EGNAL | BENJAMIN | HUMPHREY
EHRET | STEPHANIE | CHRISTEL PAGE
EHRHART | CHARLES | EUGENE
EIE | LYNNE | ANN KREGER
ELEFF | DAVID | ZACHARY
ELLEN | RICHARD | PAUL
ELMS | DUNCAN
ELSAKKA | OMAR | TAREK
ELTERMAN | ADRIAN | THOMSON
ENDELMAN | TESSA | JANE
ENG | GARY
ENGELBERT | TIMOTHY | MICHAEL
ENGELKES | TIM
EPIFANI | PAOLA
ESTEP | JULIA | LOUISE
ESTOK | JEFFREY | CAMERON
ETTLIN | TOBIAS | ANTON
FABIUS | CHARLES
FASTING | THOMAS | FREDERICK
FAYYAD | JOSEPH | ABD
FELLER | KATHY | JOLENE
FILBERT | ANN | LOUISE
FINKELSTEIN | ROBERT | ALAN
FINNERN | SABINE | MARIA
FINNEY | ELISABETH | ALEXANDRA
FISKE | PATRICIA | ANNE
FLAHERTY | TIMOTHY | ALFRED
FLOWERS | LISA | ANNE
FLUSFEDER | DAVID | LAWRENCE
FORTIER ADRIAN | MARY | MARGARET
FOSTER | ZAQURI | GEORGE
FOULADI | DARYOUSH | ABBASS
FOURT | ANNE | MANDEL
FRANCIS | TREVOR | JOHN
FRASER | GARY | MURRAY
FREEMAN | KIMBERLEY | KATHLEEN JANE
FREUND | JEROME | MICHAEL
FRICK | LORENZO | NICOLAS
FROST | BENJAMIN | TIMOTHY
FRY | CHRISTIAN | HAROLD
FUKAYA | KENJI
FUKAYA | MAKIKO
FUKAYA | SACHI
FUKAYA | YURI
GAGEN | MARTIN | MICHAEL
GAGNET | ALEXANDER | QUINTEN
GAGNON | FRANCOISE
GASS | ANDRE
GELDART | JANE | ELIZABETH
GELSOMINO | CAROLYN
GEORGE | GREGORY | SPIRO
GETTRUST | PATRICK | JOSEPH KEATS
GEYSELS | TIMOTHY | VICTOR MARIA
GHALAYINI | LUAY | JEHAD
GIBEAULT | SHARON | MARIE
GIBERSON | NAOMI | SIOBHAN
GIBSON | BRIDGET | NICOLE
GIBSON | JORDAN | SAMUEL
GILBRAITH | MARK | JON
GILLIES | MARY | DANIELLE
GINER | GABRIEL
GINN | TRACEY | MARGARET
GLOOR | CHARLES | ANTOINE
GLOSTER | ANDREW | THOMAS
GLYDE | CASSIDY | LEE
GLYDE | TAHLIA | ROSE
GLYNN | LAURIE | ANN
GNERRE | DAVIDE
GODDARD | PAUL | GERARD
GOLDBLATT | ELIYA
GONG | PENG
GONZALEZ | JOSE | ERNESTO
GOODMAN | GORDON | CHARLES
GORAS | WENDY | ANN
GOSSETT | MAYA | CELINE
GOTO | REIKO | A.
GRADY | PATRICIA | MARY
GRAHAM | LYNN-CHRISTINE
GRAHAM | NICHOLAS | PETER
GRAVESTOCK | JONATHAN | LACHLAN
GRAY | ANGUS | ALEXANDER STEWART
GRAY | MANUELA | CHRISTA
GREEN | RACHEL | FERN
GREENHALGH | BRIAN | RONALD
GREENWOOD | BRUCE | RICHARD
GREENWOOD | NANCY | LYNNE
GREFSHEIM | MATTHEW | FRANKLIN
GRIFFO | KENNETH | JAMES
GROSS | FRANK | WILLIAM
GROSSMAN | EDWARD
GROSSMAN | HUGH | ALEXANDER
GROSSMAN | MARTHA | HARRIET
GROTKOWSKI | PATRICIA | ANN
GUILMETTE | JULIE | MARTINE ELISE
GUM | ANDREW | GEORGE
GUNARSO | SURFI | RASMININGRUM
GURNEY | ANDREA | KRISTINA
GUTSCHE | CLARA | JEAN
GUTSCHE-MILLER | SARAH | JOHANNA
HAASE | HELEN
HABGOOD | ELIZABETH | ANN
HABLUETZEL | KEVIN | BENJAMIN
HALL | REBECCA | ELMARIA
HALL II | JOHN | GREENWAY
HAMILTON | ROBERT | DUNCAN
HAMPTON | DAVID | MAVERICK
HANDSCHIN | LUKAS | PETER
HANNABY | MALCOLM | PETER
HANSEN | KRISTINA | HELENA
HANSEN | RICHARD | CARL
HANSON | GEORGE | CLAYTON
HARAKSIN | JULIA | CHRISTINE
HARDIE | KAREN | ANN
HARDISTY | JAMES | MITCHELL
HARMON | MICHAEL | LEROY
HARRIGAN | VICTORIA | JEAN
HARRIS | MARIKA | CHANTAL
HARVEY | THOMAS | KENDALL
HARYANTO | GLENN | CHARLES
HAYASHI | MARI
HAYES | JEREMIAH | JOSEPH
HEANEY | ANGELA | MARIE
HEIDMANN | TIMOTHY
HEIMBECKER | LAURA | DAWN
HELD | SCOTT | EDWARD
HELLSTERN | JOSEPHINE | MAREE
HERMANNS | THERESA
HERRING | JENNIFER | ANN
HERRING | NICOLE | MAUREEN
HERRING | PAUL | ROBERT
HERRMANN | PETER | JEFFREY
HICKEN | NATALIE | ELIZABETH
HILDEBRAND | FRANSHESCA | FAY
HIRST | BELINDA | LUCIE
HO | BENNY | KINGMAN
HOGAN | DAVID | JOHN
HOGEN | BRIAN | JOSEPH VANDEN
HOGUE | RALPH | LEWIS
HOHMANN | OLGA
HOLLIDAY | ANNE | MARGARET
HOLLINGER | ANDREY | JUNE
HOLLOWELL | MIDORI
HOLMES | CLARE | LOUISE
HONIGSBAUM | CLAIRE | FLORENCE
HOPKINS | ELAINE | GARON
HORII | MASAHIRO
HOSEA | KIRSTY
HOTSON | LOUISA | KELLY ANNE
HOWARD | CRISTOPHER | FRANK
HOWARD | GREGORY | FABIEN
HOWELL | EDWARD | HERBERT KIM
HU | SONGYUN
HUANG | ALLEN | RICHARD
HUANG | EVELYN | Y.
HUEHNE | ELKE | MARIA
HURLEY | PAUL | CHRISTOPHER
HYLAND | JOSEPHINE | JULIA
HYMAN | ROBERT | ALAN
IKEBE | KOZUE | I.
IMAI | HIROYUKI
IMASE | KAORI
INNES | JOHN | CHRISTOPHER
INOUE | TORU
ISHANI | RAFIK
ISOYAMA | MAKI | WATANABE
ITO | HISAKO
JACKSON | SCOTT | DAVID
JAEGER | CLAUS
JAEGGI | ADRIAN | VIKTOR
JAENECKE | ELLEN
JAMES | KATHERINE | ELIZABETH
JASSAL | KAI | FRIEDRICH SINGH
JENSEN | POUL | KOFOED
JOHNSEN | LEIF | MORTEN HENNUM
JOHNSON | AMANDA | JEAN
JOHNSON | RICHARD | RAY
JULIEN | SYLVAIN | G.
JUSTICE | WILLIAM | STEPHEN MICHAEL
KAEFER | CORNELIA
KAMPERS | RENEE
KAMPHUIS | HERMAN | HENK
KATO | TOSHIMI
KATSELAS | MARIE | ELIZABETH
KATZ | ITAI
KEARNS | MARGARET | ANNE
KEDAR | TOMER | NAHUM
KEMP | ROMAN
KENNEDY | SEAN | PATRICK
KENNEDY | VICTORIA | HELEN
KENNY | PAUL | TERENCE
KENNY | VALERIE | MYRA
KERR | JULIE | LOREEN
KERR | SANDRA | MAE
KIM | KYUNG | SOOK
KIM | SUMI
KIMBERLEY | GLORIA | FRANCES
KINDLER | JAN | POLIKARP
KING | JAQUELINE | ANNE
KING | MATTHEW | LEE
KINNAIRD | NICOLA
KINOSHITA | KEN
KLEIN | DAVID | GABRIEL
KLEIN | PAULA | DENISE
KLOVSKY | LEON
KLUECK | MARTIN | WILLIAM
KNOX | EMILY | JEAN
KNOX | KRISTINA | JULIA
KO | RONALD | WING-LOK
KOENDERS | OSCAR | MARCO PAOLO
KOHLER LUNELLI | LUCIA
KOIKE | RYOJI
KONG | THOMAS | KWOK HOONG
KONZEN | BRIGITTE | ELISABETH
KOOLS | MIREILLE | CORNELIA
KOPPE | FABIEN
KORTEKAAS | LISA | JASMIJN
KORTEKAAS | PETER
KORTEKAAS | THIJS | RUBEN
KREBES | MICHAEL | FRANK
KUEPFER | VIRGINIA | MICHELLE
KULAK | AVRON | PAUL
KUNUGI | EMIKO
KUNZ | BETTINA | ELISABETH
KURAHASHI | MIKI
KURAMOTO | CONSTANCE | MARIE
KURYLUK | EWA
KUYS | RENE | LOUIS
KYDD | SUSAN | BRIDGET
LAAKSO | TUULI | MAIJA ELINA
LACROIX | FANNY | ALICE GENEVIEVE
LAJOIE | ISABELLE
LAKE | LISA | MICHELE
LAMB | VIRGINIA | LEE
LANDRY | JACINTHE | SOLANGE
LANGOLF | AARON | DUNCAN JOHN
LANGOLF | SANDRA
LARSSON | JAN | LEE WALKER
LAWRENCE | NICOLETTE | LAN
LEE | HAE | JEONG
LEE | JENNA | J.
LEE | NURENEE
LEONARD | NICOLAS | EMMANUEL CEDRIC
LESLIE | JESSICA | CHRISTINE
LESSLAUER | MIREILLE | DOMINIQUE
LEUNG | MARGARET | WAI-KUN
LEVENGOOD | MARK | WILLIAM
LEVINE | SHARI | JAE
LEVINE-MIDDLESTADT | JOCELYN
LEWIEN | KELLI | ANN
LEWIN | EMILY | LOUISE
LEWIS | HAYDN | DAVID
LEWIS | MARTINA
LEWISSON | LOUISE | CARLEY
LI | JOHN
LIANG | JUNE | JUN
LIANG | ZHANZHAN
LICHTMANN | THEODOR | DAVID
LIEBER | SHLOMO | MENACHEM
LIEW | SU | FEI
LI-MARCHETTI | CAMILLE | AGNES MONIQUE
LIN | YUANZHEN
LIN | YUN | JU
LJUNG | HANNA | CHARLOTTE
LOCKLIN | ROWENA | GAIL
LOEKS | DAVID | ALLEN
LOGAN | BRENDAN | JOSEPH
LONG | STEVEN | EUGENE
LORD | DANIEL | EDWARD
LORETTE | ANDREA | MARIE
LOVEDAY | LORETTA | JEAN
LOW | MATTHEW | ALEXANDER PAANG CH
LOWDEN | SIMON | DAVID
LOWE | PHILIP | GERARD
LOZANO | LEAL | YOUNG SHIK
LUCAS | LUIS | RUIZ CALLE
LUCAS | PEDRO | RUIZ CALLE
LUCE | SALLY | RAE
LUN | YVONNE | PUI FONG
LUNELLI | ARTUR
LUSH | SHARON | MAUREEN
LUSSIER | NATHALIE | MARIE RENEE LOUISE
LUTFIYYA | ZANA | MARIE
LUTHI | ANDREW | NICHOLAS
MACDOUGALL | WILLIAM | ALEXANDER
MACKAY | LYNN | ALLISON
MACKENZIE | MICHAEL | JOHN
MADDEN | GREGORY | ROBERT
MAENZA | ANDREA | JANE
MAERCKER | TOBIAS
MANGALJI | OMAR | RAFIQ
MANSELL | CLAUDIA | JABS
MAR | LILIANNA
MARSH | BARBARA | LYNN
MARSHALL | EILEEN | EDINGER
MARSHALL | TYSON | CHARLES
MARTIN | GREGORY | BRYCE
MARTIN | STANLEY | BLAINE
MARTINEZ | JOSEPH | MARCO
MASTERS | QUIMBY | REBECCA
MATTIACCI | MARCO
MAU | ELKE | ESTHER
MAUERMANN | ECKHARD
MAYER | SAMUEL
MCCARTHY | LIAM | DES
MCCARTHY | PATRICK | GERARD
MCCLUNEY | ERICA | KATHLEEN
MCCLUNEY | MELISSA | RUTH
MCDONALD | HEATHER | LNNE
MCDOWELL | KATHRYN | ANNE
MCGUINNESS | ROSHAN | AIDAN
MCHALE | LANA | SUNNI
MCMILLAN | BRETT | BROWNRIGG
MCNARY | AVERIE | JENNIFER HILL
MCPARTLAN | PAUL | GERARD
MCPHAIL | KRISTEN | CAROL
MCQUEEN | EVELYN | MARGARET
MEEK | JILL
MEEK | THOMAS
MEHTA | HARSH | J.
MENG | CHUNXIAO
MERGL | JUNE | CHANDLER
MERTENS | ANNETTE
MESIC | DANIELA | EME
MESIC | MICHAEL | JOHN
MEYN | ASHLEIGH | RHIANON
MICHAUD | JULIE
MICKELSON | TANNER | ELY
MIGLIORE | CLAUDIO | ALBERTO
MILENTIS | ARIS | JOHN
MILLAR | ROBERT
MILLER | DAVID | PHILLIP
MILSZTAJN | EVELYN | IDA FREIER
MINALL | TRISTAN | ANTHONY
MIOCEVIC | EVA | EMILIA
MISTRY | HINA
MOONEY | CATHERINE | JENNIFER
MOONEY-OGDEN | ASHLEY | KATE DOROTHY
MOORE | STEPHEN | JOHN
MORASCO | ADRIANA | SALIBA
MORGAN | IAN | BRADFORD
MORI | YUMIKO
MORRIN | ALEXANDRA | COE
MORRONE | BIANCA | ALYSSA
MORROW | DEBORAH | JEAN WALKER
MOUAT | MELISSA | MICHELLE
MOUER | SARAH | ANNE
MUELLER | LARISSA | LUZIA
MULDER | EMMA | ROXANNE
MURNIGHAM JR | WILLIAM | EUGENE
MURPHY | CARRIE | ANNE
MURRAY-HAENNY | NICOLE | REGINA
MYSZEWSKI | TOMASZ | BARTOSZ
NADEAU | SHAHN | MICHEL
NAITO | ASUKA
NAIVAR | LAURA | MARIE
NAKAMURA | FUMIE
NAKAMURA | NATSUMI
NAKAMURA | TAKESHI
NAKANO | YOSHIHARU
NAKANO | YUKAKO
NELSON | HAROLD | RAYMOND
NETHERCOT | ERIC | NORMAN HEGLUND
NEUFELD-REISSIG | KATHLEEN | ANN
NEWMAN | ERICA | LYNN
NEWSTEAD | WARREN | LEWIS
NEWTON | BRENT | HAYWOOD
NICKSON | CATHERINE | MELANIE
NIEUWENDIJK | ILLONKA | MARIA
NIEUWENHUIS | INGRID | LYDA CATHARINA
NISHII | TAKAKO
NIXON | GEORGE | WILLIAM CORNOCK
NOVAKOSKI | DAVID | CHARLES
NOVAKOSKI | LINDA | JOYCE
NOVASKY | WILLIAM | EDWARD
NYENKAMP | BLAKE | JAMES WILL
OBERMAN | NOAH | IL-HAE REINHOLD
O'CONNELL | SHANTHI | NANAVATI
OCONNOR | KEVIN
ODELL | MARK | ANDREW
ODIN | LAURENT | HENRY
ODOMBROWN | HARUKA
OGINO | KAZUYA | CHRISTOPHER
OHTOMO | KAORI
OLIVER | DENISE | DIANE
OLIVER | JAMIE | MARIE
OLSON | CHRISTIAN | JOHANN
OLSSON | JULIAN | RANDOLF
OLSSON | SANDRA | RUTH
OMABOE | JEAN | NOI
OMARSDOTTIR | RAKEL | YR
O'NEILL | IRENE | MARGARET
ONO | ETSUMI
OPHIR | ITAY
OPPENHEIM | JOSHUA | MATTEW LOWDERMILK
O'REILLY | MAEVE | KATHERINE
ORMANDY | CHRISTOPHER | LASZLO
OSBORNE | CATHERINE | MARGARET ALICE
OSEKU | LUARAS
OTTES | SANDER | MARK
PAGANO | VERA
PAPADOPOULOS | MICHAEL | NICHOLAS
PAPADOPOULOS | PHILIPPOS | NICHOLAS
PARADIES | WILLIAM | WELD
PARE | JEAN
PARK | RITVA | HELENA
PARK | WONJIN
PARKER | PENELOPE | EVELYN
PARKER | ROSS | OWEN
PARKINSON | EMILY | GAIL
PARRY | LOREN | ALEXENA
PASQUINI | VIVIANA OLGA | AUGUSTA
PATEL | NITIN | BALUBHAI
PATZER | ROBERT | ALLAN
PAUL | LESLIE | VIVIAN
PEARCE | HELEN | KATHARINE
PEASE | KAREN | REI
PEERI | AVIV
PELLETIER | GILLES | PAUL
PENDER | PAUL | JAMES
PENG | ZHIWEI
PENSIERO | JEFFREY | DONALD
PERRY | RYAN | SCOTT
PERSOON | EDWIN | BERT
PETERSON | RICHARD | FRANCIS
PHELPS | BETH | ANN
PHILIP | JERILYN | ANN
PHILIP | KRISTY | JANNE
PICKELEIN | MICHAEL | THOMAS
PIEL | JULIA | MARIE
PIERCE | HEATHER | MARIE
PIPER | ANDREA | FARQUHAR MIDDLETON
PLATTE | MELINDA | DARCIE
PODZUS | BRUNO | BERND
POLSON | GLORIA | KIT MAY
POOLER | ROBERT | EDWARD
PORTER | JOHN | FREDERICK
PRATSINIS | ANNA
PRICE | RANDALL | SHANE
PRIEBE | ELIANOR | DOROTHEA MARLENA
PROUKAKI | EIRINI | OLGA
PURVIS | ESMEE | CAMPBELL JEAN
QAQISH | RUBA | HANNA SALIM
QUAST | LISA | S.
QUIMBO | CARLOS | VICENTE
RAFFAELLI | LUCA
RAMSDEN-WOOD | ASHLEY | RUTH
RANDLES | MARY | ELIZABETH
RANSOM | EMILIA | BOLIN
RAU | MARTINA | ANGELA
RAY | CATHERINE | ANNE
READSHAW | KRISTINA | MARIE
REBRIN | PETER
REES | PETER | WILLIAM
REICHEL | JOHN | EDMUND
REICHSTEIN | CARMEN
REMUS | LEE-ANNE
RENOUX | JENNIFER | CECILIA
REYNOLDS | PETER | VAN RENSSELAER
RICHARDSON | EMMA | GARNET
RIEDEL | BENJAMIN
RIFA MOLI | MARIA
RIHANI | JIRIES
RIIHILUOMA | PETER | JAY
RILEY | CLINTON | ROBERT
RIMMER | DIANE | ELIZABETH
RISCH | ETHAN | CARL GUSTAV
RITCHIE | SANDRA | JEAN
RITCHIE | SCOTT | ALEXANDER
ROAT | ERIC | STEPHENSON
ROBERTS | ALEXANDER | LYMAN
ROBERTS | ELIZABETH | MUIR
ROBINSON | CHRISTOPHER | LEONARD
ROBINSON | JASON | PAUL
ROBSON | JANET | LYNNE
RODRIGUES | MARC | ANTHONY
RODRIGUEZ | GABRIELA | QUEVEDO
ROHRBACH | ANNA
ROHRBACH | MARCUS
ROIG | ANNA | JULIA
ROMAN | AMELIA | ANN
ROMANOWSKI | ANDREW
ROQUETTE | GISELA | JUNE
ROSE | ALAN | BARTON
ROSENBERG | WILLIAM | MALCOLM CHARLES
ROSENTHAL | SUSAN | MARY
ROUILLARD | VERONIQUE | MARIE MARCELLE
ROWE | JAMES | EDWIN
ROYLE | SOPHIA | ELIZABETH
RUBIN | JENNIFER | KATEMAN
RUBIN | MARK | ANDREW
RUNGE | KAREN | JEAN
RUSHFORD | MICHELLE | GAIL
RUSINEK | ADRIANA
RUSSELL | DAVID | PETER ANTONY
RYAN | JENNIFER | ANNE
SAEZ BELMONTE | FARA
SAIAG | FRANCK | OLIVIER
SAINTAIN | AURELIA | EVELYNE
SAKAGUCHI | RYO
SAMSAMI | FERESHTEH | ZARA
SANDQUIST | JULIA | ELIZABETH ANNE
SAPHIN | REILLY | JAMES
SARASINO | MICHELLE | ALESSANDRA
SATO | DAIGO
SATO | HIDEKO
SATO | TAKAHIDE
SAUNDERS | MICHAEL | CHARLES
SCHAEFER | ARI | DANIEL
SCHICKLER | MAXIMILIAN | TOBIAS
SCHIELE | HEATHER
SCHILLEBEECKX | YASMINE | ALOISIA
SCHMITT | BENJAMIN | MICHAEL ALEXANDER
SCHOON | MELISSA-ANDREA
SCHREIBER | HOPE | ELAINE
SCHUMACHER | DAVID | BRODIE
SCHUYER | FRANK
SCOTT | ALLISON | JUNE
SCOTT | MALCOLM | DAVID STANLEY
SCROCCHI | MARTIN | PATRICK
SCROCCHI | MONICA | ROSE
SCROCCHI | SHANNON | KATHLEEN
SCULLY | MICHAEL | VINCENT
SECELEANU | CORNELIA
SEDGER | JAMES | JOSEPH
SEDLER | ALEXANDER | CRENSHAW
SENER | LEVENT
SENOO | MOTOTAKA
SETHI | VARUN
SHAM | CLEO | YEUNG
SHANTA | PAUL | STEVEN
SHAOULIAN | AVIGAIL
SHARP | PETA
SHASHAA | SERENE
SHAVER | CHIHARU | NUNOME
SHAW | MICHAEL | LEWIS
SHIELDS | GEORGINA | PATRICIA
SHIMABUKURO | RIE
SHIME | KENJI
SIEMS | BENEDIKT | L.
SILVERSIDES | CYNTHIA | LYNN
SILVERSIDES | LOGAN | TRENT
SIMONS | JANET | EMILY
SIMONSON | SYLVIA | MARGARET
SISON | ROCHELLE | CHIONGBIAN
SISS | KURT | MARSHALL
SKELT | NICHOLAS | SAMUEL
SLOCOMBE | DENISE | KELLY
SMALLEY | SUSAN | MARIE
SMITH | DANIEL | DALE
SMITH | HARRIET | ROSE
SMITH | JEANE | KAREN
SMYTHE | BONNIE | LENORE
SMYTHE | MICHELYN | VIVIAN
SNELLING | ANDREW | ARTHUR
SODERLUND | JOHN | HARALD
SODERLUND | MARIA | ELISABETH
SOK | THEA
SONMEZER | OLGA
SOW | BRYAN | MIAXUAN
SPARBY | ERIK | O.
SROCZYNKI | ROBERT | EDWARD
STANGER | MICHAEL | JAMES
STANIER | JANE | FRANCOISE
STEEGER | HENRY | READING
STEINBERG | REBECCA | JAN ROSEMARIE
STEINER | INGMAR | MICHAEL
STEPHENS | ERIN | MICHELLE
STERLING | LINDSEY | LEE
STERLING | MICHAEL | ALLEN
STERLING | NICOLE | GEORGIA
STERNHEIMER | WILLIAM | THOMAS
STEVENS | SUSAN | LOUISE
STILES | WENDY | SUE
STOCKER | MARK | DAVID
STOICIU | ANCA | CRISTINA
STOLBERG | NICOLAS | CONSTANTINE
STOVICEK | THOMAS | JAN
STOYAKOVICH | CONSTANCE | HOFFMAN
STRATOS | KATERINA
STREICH | PATRICIA
STYREFORS | MAUD | A.U.
SU | KO | CHUAN
SUBBAYYA | KAVERY | M.
SUBBAYYA | NADIKERIANDA | NANJAPPA
SUDARMADJI | MARIA | GERHARDA CORNELIA
SWAINGER | CORINNE | JANE
SYBESMA | JACQUELINE
SZECSENYI | ZSOFIA
TAGLIONI | GIAMBATTISTA
TAN | KIM | CHOON
TAN | SIEW | KIEW
TANAKA | HIROKO
TAYLOR | CHARLES | GEOFFREY WILLIAM
TAYLOR | SAMANTHA
TEITELBAUM | MAXWELL | JACOB
TENBROCK-INGENHORST | MICHAEL
THIHA | MIN
THOMAS | CHRISTOPHER | LLOYD
THOMAS | OLWEN | LESLEY
THOMPSON | BRADLEY | PATRICK
THOMPSON | SABRINA | SHELBY
THOMSON | GORDON | JOHN
THORNDYCRAFT | JONI | BROOK
TINIUS | GWENDOLYN | JOYCE
TOMLOW-DE MUINCK KEIZER | CHRISTINA | BEATRICE
TOPPING | DEBORAH | ANNE
TOYOSHIMA | KINU
TRAVERS | MARTI | REED
TRAYNOR | TIMOTHY | GREIG PATRICK
TRICARICO JR | VITO | ANTONIO
TRIPP | VICTORIA | MAY
TROVARELLI | PAULA | STEPHANIE
TSCHABOLD | ALESSANDRO | YVES
TSENG | WARREN
TUNG | MATTHEW | TIN-LOK
TURNER | BRYAN | STANLEY
TUTSSEL | MARK | CHRISTOPHER
UENO | KANAME
UHL | MARY | LOU
VAN ARK | WILLIAM | JOHN
VAN DER MEI | TIM | ROBERT
VAN DRENTH | WOUTER | EDWIN
VAN MALDER | NICOLE | ELIZABETH
VAN NOORT | WIBO | DANIEL
VAN WELL | KIRSTEN | STEVENS
VAN WIJNGAARDEN | ADRIANA | INEKE
VAN WIJNGAARDEN | HERBERT
VANAUTRYVE | TOM | ACHIEL
VANDERGAAG | SHAWN | MARTIN
VARVARESSOS | ADAM | FRANK
VEEH | ELKE
VERIN | RACHEL | EMILIA
VERREAULT | ERIKA | KATALIN
VIERING | CHRISTIAN | BORNTRAEGER
VILLENEUVE | SUZANNE | LUCILLE
VISCHER | MICHAEL | PETER
VOLOSHIN | DEENA
VON KROSIGK | MARIE-THERESE | ELEONORE SCHWERIN
VORAA | KNUT
WACHTEL | JEANETTE
WAER | CHRISTOPH | HENDRIK M
WAGHORN | SOPHIE | LAURA
WALDRAM | ROSS | WILLIAM
WALLS | JAMES | ARCH
WALTON | LEE-MAX
WANG | FENGMEI
WANG | MINGHAO
WARDEN | LISA | TODD
WARNEKE | MATTHEW | DAVID
WATCHMAN | RENAE
WATES | LAURIE | LINDSEY
WATES | MILES | HARRISON JAMES
WATFORD | MICHAEL | WILLIAM
WATSON | REBECCA | MARGARET CLARE
WATT | CATHERINE | ANNA
WAUGH | ANNE | FRANCES
WEAVER | TAMIE | RENEE
WEBER | KOSEI | PAUL
WEBER | RICHARD | MARK
WEIR | MARGARET | IRENE
WELLS | ARIANA | FRANCES MURRAY
WELLS | JAMES | NICHOLAS MURRAY
WEST | DOUGLAS | RAYMOND
WESTERLING | CHARLES
WHEELER | STEPHEN | JAMES
WHITE | CLAUDIA | ANN
WIENS | DAWNETTE | JOAN
WIESENDANGER | MARTIN | CHRISTIAN
WILKINS | KIRRA | MARIE
WILLIAMSON | DANIEL
WILLIFORD | JEANETTE | MARIE
WILLIMANN | MELANIE | FRANCINE
WILSON | KATHALEEN | JEANETTE
WILSON | KATHERINE | NELLIE
WILSON | RONALD | BARRIE
WINTZ | COLIN | LOUIS
WOLFE | OLWEN | HUGHES
WOLFSON | ANDREA | RUTH
WONFOR | MARY | LYNNE
WONG | ANDY
WONG | FRANZ | FREDERIC
WOOD | DANIELLE | ANNE
WOOD | RYAN | GREGORY
WOODS | ALEXANDER | MARCEL
WOODS | LOUIS | ALDOUS
WOODY | JOYCE | KAY
WORONUK | NICLAUS | DEAN
WORRELL | WILLIAM | WINCHELL
WOSZCZYNA | MONIKA
WOUTERLOOT | JAN | GERARD AMOS
WRIGHT | SIMON | HOCKLEY
WU | BRIAN
WU | ELAINE
WU | HONGCHUN | HONGCHUN
WUETHRICH | THOMAS | MARTIN
YALCIN | NEDIM | HAMDI
YEE | ANDREW | KENNETH
YEH | RICHARD
YEO | RHYS | ZHEN KAI
YEUNG | SUK | YIN
YI | CHERYL | MEI YING
YKEMA | BLAKE | ADAM
YOUNG | ERICA | ANN
YUDCOVITCH | NACHUM
YUEN | ANDREW | WILFRED
YUNG | JESSICA
ZAMBLE | EDWARD
ZAMBLE | MARCIA
ZHANG | YIFEI
ZILBERMAN-FRADIS | CARMEL
ZIMMER | JENNIFER | CAROLINE
ZONG | JERRY | JISHENG
ZWAR | ADAM | BENJAMIN

Dated: January 16, 2026.
Kevin T. Hall,
Senior Revenue Agent Team 1942, CSDC—Compliance Support, Development & Communications, LB&I:WEIIC:IIC:T4.

[FR Doc. 2026-01251 Filed 1-22-26; 8:45 am]

BILLING CODE 4830-01-P